SMALL BUSINESS ADMINISTRATION

[Declaration of Disaster #3290; Amendment #1]

State of Montana

In accordance with a notice from the Federal Emergency Management Agency, dated September 19, 2000, the above-numbered Declaration is hereby amended to include the following counties and Indian Reservations in the State of Montana as a disaster area due to damages caused by wildfires beginning on July 13, 2000 and continuing: Big Horn, Blaine, Carter, Chouteau, Custer, Fallon, Fergus, Garfield, Golden Valley, Hill, Liberty, Musselshell, Petroleum, Phillips, Powder River, Prairie, Rosebud, Toole, Treasure, and Yellowstone Counties, and Fort Belknap, Rocky Boy's, Crow, and Northern Cheyenne Indian Reservations.

In addition, applications for economic injury loans from small businesses located in the following contiguous counties may be filed until the specified date at the previously designated location: Dawson, McCone, Valley, and Wibaux Counties in Montana; Campbell, Crook, and Sheridan Counties in Wyoming; Bowman, Golden Valley, and Slope Counties in North Dakota; and Butte and Harding Counties in South Dakota. Any counties contiguous to the above-named primary counties and not listed herein have been previously declared.

The economic injury number for the State of North Dakota is 9I8800 and for South Dakota the number is 9I8900.

All other information remains the same, i.e., the deadline for filing applications for physical damage is October 29, 2000 and for economic injury the deadline is May 30, 2001.

(Catalog of Federal Domestic Assistance Program Nos. 59002 and 59008.)

Dated: September 21, 2000.
Herbert L. Mitchell,
Acting Associate Administrator for Disaster Assistance.

[FR Doc. 00-24958 Filed 9-28-00; 8:45 am]

BILLING CODE 8025-01-P